DEPARTMENT OF ENERGY

Federal Energy Regulatory Commission

[Docket No. EC01-70-000]

Wisvest-Connecticut, LLC and Bridgeport Harbor Power LLC, New Haven Harbor Power LLC, and NRG Connecticut Power Assets LLC; Notice of Filing

DATES: April 16, 2001.

Take notice that on April 11, 2001, Wisvest-Connecticut, LLC (Wisvest), Bridgeport Harbor Power LLC (BHP), New Haven Harbor Power LLC (NHHP), and NRG Connecticut Power Assets LLC (NRG Connecticut), pursuant to Section 203 of the Federal Power Act, filed with the Federal Energy Regulatory Commission (Commission) an amendment to their February 16, 2001 application requesting authorization for Wisvest to transfer to NRG Connecticut the 590-MW Bridgeport Harbor Power Station, 466-MW New Haven Harbor Power Station, and associated power sales agreements. At closing, NRG Connecticut would in turn transfer the Bridgeport Harbor Station to BHP and the New Haven Harbor Station to NHHP, but would retain the power sales agreements. By this amendment, the Applicants seek to eliminate the final step of the proposed transaction: NRG Connecticut will retain both the Bridgeport Harbor Power Station and the New Haven Harbor Power Station, that is, NRG Connecticut will not transfer any facilities to BHP or NHHP.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before April 26, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-9755 Filed 4-19-01; 8:45 am]

BILLING CODE 6717-01-M